ENVIRONMENTAL PROTECTION AGENCY

[EPA-HQ-OAR-2021-0106; FRL—9789-01-OMS]

Information Collection Request Submitted to OMB for Review and Approval; Comment Request; NESHAP for Paper and Other Web Coating (Renewal)

AGENCY: Environmental Protection Agency (EPA).

ACTION: Notice.

SUMMARY: The Environmental Protection Agency (EPA) has submitted an information collection request (ICR), NESHAP for Paper and Other Web Coating (EPA ICR Number 1951.10, OMB Control Number 2060-0511), to the Office of Management and Budget (OMB) for review and approval in accordance with the Paperwork Reduction Act. This is a proposed extension of the ICR, which is currently approved through April 30, 2022. Public comments were previously requested, via the Federal Register, on April 13, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before May 25, 2022.

ADDRESSES: Submit your comments, referencing Docket ID Number EPA-HQ-OAR-2021-0106, online using www.regulations.gov (our preferred method) or by mail to: EPA Docket Center, Environmental Protection Agency, Mail Code 2821T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting. are available in the public docket for this ICR. The docket can be viewed online at https://www.regulations.gov, or in person at the EPA Docket Center, WJC West Building, Room 3334, 1301 Constitution Ave. NW, Washington, DC. The telephone number for the Docket Center is 202-566-1744. For additional information about EPA's public docket, visit: http://www.epa.gov/dockets.

Abstract: Owners and operators of paper and other web coating facilities are required to comply with reporting and record keeping requirements for the General Provisions (40 CFR part 63, subpart A), as well as for the applicable specific standards in 40 CFR part 63 Subpart JJJJ. This includes submitting initial notifications, performance tests and periodic reports and results, maintaining records of materials usage, and any period during which the add-on control system is inoperative. These reports are used by EPA to determine compliance with these standards.

Form Numbers: 5900-532.

Respondents/affected entities: Owners and operators of new and existing paper and other web coating facilities.

Respondent's obligation to respond: Mandatory (40 CFR part 63, subpart JJJJ).

Estimated number of respondents: 171 (total).

Frequency of response: Initially, semiannually.

Total estimated burden: 17,300 hours (per year). Burden is defined at 5 CFR 1320.3(b).

Total estimated cost: $3,030,000 (per year), which includes $975,000 in annualized capital/startup and/or operation & maintenance costs.

Changes in the Estimates: There is no significant change in burden from the most-recently approved ICR. The change in burden from the most-recently approved ICR, as currently-identified in the OMB Inventory of Approved Burdens, is due to an increase in the number of respondents that are subject to this rule. The rule was previously amended in 2020 on both July 09 and November 19. This ICR adjusts the burden to account for the growth rate within the industry following the July 9, 2020, final rule ICR. The rule is not anticipated to change over the next three years. The growth rate for this industry is low at one new source per year. Due to these adjustments, there is an overall increase in burden, although the rounded burden hours have not changed from the prior ICR. The capital/startup and operation and maintenance (O&M) costs have also been adjusted to account for growth. The overall result is an increase in costs.

Courtney Kerwin,
Director, Regulatory Support Division.

[FR Doc. 2022-08700 Filed 4-22-22; 8:45 am]

BILLING CODE 6560-50-P